DEPARTMENT OF COMMERCE

National Oceanic and Atmospheric Administration

Evaluation of National Estuarine Research Reserve; Notice of Public Meeting; Request for Comments

AGENCY: Office for Coastal Management, National Ocean Service, National Oceanic and Atmospheric Administration, Department of Commerce.

ACTION: Notice of public meeting; opportunity to comment.

SUMMARY: The National Oceanic and Atmospheric Administration's (NOAA) Office for Coastal Management will hold a virtual public meeting to solicit input on the performance evaluation of the North Inlet-Winyah Bay National Estuarine Research Reserve. NOAA also invites the public to submit written comments.

DATES: NOAA will hold a virtual public meeting on Tuesday, August 19, 2025, at 5:30 p.m. Eastern Time (ET). NOAA may close the meeting 10 minutes after the conclusion of public testimony and after responding to any clarifying questions from meeting participants. NOAA will consider all relevant written comments received by Friday, August 29, 2025.

ADDRESSES: Comments may be submitted by one of the following methods:

• Virtual Public Meeting: Provide oral comments during the public meeting on Tuesday, August 19, 2025, at 5:30 p.m. ET by registering as a speaker at https://forms.gle/1ye3VTibrkiWHsfg9. Please register by Tuesday, August 19, 2025, at 8 a.m. ET. Upon registration, NOAA will send a confirmation email. The speaker lineup is based on the date and time of registration. At least one hour prior to the start of the August 19, 2025 virtual meeting, NOAA will send an email to all registrants with a link to the public meeting and information about participating. While advance registration is requested, registration will remain open until the meeting closes, and any participant may provide oral comment after the registered speakers conclude. Meeting registrants may remain anonymous by typing “Anonymous” in the “First Name” and “Last Name” fields on the registration form.

• Email: Send written comments to Pam Kylstra, Evaluator, NOAA Office for Coastal Management, at czma.evaluations@noaa.gov. Include “Comments on Performance Evaluation of the North Inlet-Winyah Bay National Estuarine Research Reserve” in the subject line. NOAA will accept anonymous comments; however, all comments NOAA receives are part of the public record, and the entirety of the comment, including the name of the commenter, email address, attachments, and other supporting materials, will be publicly accessible. Do not submit confidential business information or otherwise sensitive or personally identifiable information, such as account numbers and Social Security numbers. Comments that are not related to the performance evaluation of the North Inlet-Winyah Bay National Estuarine Research Reserve or that contain profanity, vulgarity, threats, or other inappropriate language will not be considered.

FOR FURTHER INFORMATION CONTACT: Pam Kylstra, Evaluator, NOAA Office for Coastal Management, by email at CZMA.evaluations@noaa.gov or by phone at (843) 439-5568. Copies of the previous evaluation findings, reserve management plan, and reserve site profile may be viewed and downloaded online at http://coast.noaa.gov/czm/evaluations/. A copy of the evaluation notification letter and most recent progress report may be obtained upon request by contacting Pam Kylstra.

SUPPLEMENTARY INFORMATION: Section 315(f) of the Coastal Zone Management Act (CZMA) requires NOAA to conduct periodic evaluations of federally approved national estuarine research reserves. The evaluation process includes holding one or more public meetings, consideration of written public comments, and consultations with interested federal, state, and local agencies and members of the public. During the evaluation, NOAA will consider the extent to which the state of South Carolina has met the national objectives and adhered to the management program approved by the Secretary of Commerce, the requirements of Section 315(b)(2) of the CZMA, and the terms of financial assistance under the CZMA. When the evaluation is complete, NOAA's Office for Coastal Management will place a notice in the Federal Register announcing the availability of the final evaluation findings.

Authority: 16 U.S.C. 1461.

Keelin Kuipers,
Deputy Director, Office for Coastal Management, National Ocean Service, National Oceanic and Atmospheric Administration.

[FR Doc. 2025-12667 Filed 7-7-25; 8:45 am]

BILLING CODE 3510-08-P